DEPARTMENT OF LABOR

Employment and Training Administration

[TA-W-53,382]

Rubicon, Kodiak, AK; Notice of Termination of Investigation

Pursuant to section 221 of the Trade Act of 1974, as amended, an investigation was initiated on October 30, 2003, in response to a petition filed by a company official on behalf of workers of Rubicon, Kodiak, Alaska.

The petition is a duplicate of a petition filed on September 23, 2003 (TA-W-52,896). Further investigation in this case would duplicate efforts and serve no purpose; therefore the investigation under this petition has been terminated.

Signed at Washington, DC this 6th day of November, 2003.
Linda G. Poole,
Certifying Officer, Division of Trade Adjustment Assistance.

[FR Doc. 03-29385 Filed 11-24-03; 8:45 am]

BILLING CODE 4510-30-P